DEPARTMENT OF EDUCATION

[Docket No.: ED-2021-SCC-0046]

Agency Information Collection Activities; Submission to the Office of Management and Budget for Review and Approval; Comment Request; ED-524 Budget Information Non-Construction Programs Form and Instructions

AGENCY: Institute for Education Sciences (IES), National Center for Education Statistics (NCES), Department of Education (ED).

ACTION: Notice.

SUMMARY: In accordance with the Paperwork Reduction Act of 1995, ED is proposing a revision of an existing information collection.

DATES: Approval by the OMB has been requested by Friday, March 19, 2021. Interested persons are invited to submit comments on or before April 23, 2021.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: NAEP 2021 School and Teacher Questionnaire Special Study.

OMB Control Number: 1850-0956.

Type of Review: A revised information collection.

Respondents/Affected Public: Individuals or Households.

Total Estimated Number of Annual Responses: 50,294.

Total Estimated Number of Annual Burden Hours: 35,443.

Abstract: The NAEP 2021 School and Teacher Questionnaire Special Study is collecting data necessary to fully understand the impact of the COVID-19 pandemic on schools and educators. A previous emergency clearance (OMB#1850-0957) in February 2021 allowed work on the NAEP 2021 School Survey to begin. The NAEP 2021 School Survey is a monthly collection of data from 3,500 schools that gathers information about opening status (ranging from fully in-person to fully remote), the hours of instruction for students, and how enrollment and attendance rates vary by a number of social stratifying factors including race/ethnicity, socio-economic status, English learner status, and disability status. The work proposed in this package, the NAEP 2021 School and Teacher Questionnaire Special Study, is a more in-depth data collection. Although it will collect data only once, it allows NCES a deeper and richer understanding of how schools and teachers are faring while operating during a pandemic. Because the instruments are very much the same as the instruments used during every administration of NAEP, the data collected will also allow us to better understand trends in schools across and through the global coronavirus pandemic. In addition, a summative report will be provided at the end of the collection, relating the results to those from the NAEP 2021 School Survey.

Dated: March 18, 2021.
Stephanie Valentine,
PRA Coordinator, Strategic Collections and Clearance Governance and Strategy Division, Office of Chief Data Officer, Office of Planning, Evaluation and Policy Development.

[FR Doc. 2021-06018 Filed 3-23-21; 8:45 am]

BILLING CODE 4000-01-P